DEPARTMENT OF HEALTH AND HUMAN SERVICES

Food and Drug Administration

21 CFR Part 558

New Animal Drugs for Use in Animal Feeds; Bambermycins

AGENCY: Food and Drug Administration, HHS.

ACTION: Final rule; technical amendment.

SUMMARY: The Food and Drug Administration (FDA) is amending the animal drug regulations to correct an inadvertent error in the conditions of use of bambermycins free-choice cattle feeds. This action is being taken to improve the accuracy of the animal drug regulations.

DATES: This rule is effective November 7, 2006.

FOR FURTHER INFORMATION CONTACT: George K. Haibel, Center for Veterinary Medicine (HFV-6), Food and Drug Administration, 7519 Standish Pl., Rockville, MD 20855, 301-827-4567, e-mail: george.haibel@fda.hhs.gov.

SUPPLEMENTARY INFORMATION: FDA is amending the animal drug regulations in 21 CFR 558.95 to correct an inadvertent error in the conditions of use of bambermycins free-choice cattle feeds. The error was introduced in a final rule for liquid and free-choice medicated feeds that published May 27, 2004 (69 FR 30194). This action is being taken to improve the accuracy and readability of the animal drug regulations.

This rule does not meet the definition of “rule” in 5 U.S.C. 804(3)(A) because it is a rule of “particular applicability.” Therefore, it is not subject to the congressional review requirements in 5 U.S.C. 801-808.

List of Subjects in 21 CFR Part 558

Animal drugs, Animal feeds.

Therefore, under the Federal Food, Drug, and Cosmetic Act and under authority delegated to the Commissioner of Food and Drugs and redelegated to the Center for Veterinary Medicine, 21 CFR part 558 is amended as follows:

PART 558—NEW ANIMAL DRUGS FOR USE IN ANIMAL FEEDS

1. The authority citation for 21 CFR part 558 continues to read as follows:

Authority: 21 U.S.C. 360b, 371.

2. In § 558.95, revise the last sentence of paragraph (d)(4)(iii)(d) to read as follows:

§ 558.95 Bambermycins.

(d) * * *

(4) * * *

(iii) * * *

(d) * * * Daily bambermycins intakes in excess of 20 mg/head/day have not been shown to be more effective than 20 mg/head/day.

* * * * *

Dated: October 20, 2006.
Stephen F. Sundlof,
Director, Center for Veterinary Medicine.

[FR Doc. E6-18680 Filed 11-6-06; 8:45 am]

BILLING CODE 4160-01-S